DEPARTMENT OF TRANSPORTATION

Federal Motor Carrier Safety Administration

[Docket No. FMCSA-2010-0027]

Hours of Service of Drivers: WestRock Exemption; FAST Act Extension of Compliance Date

AGENCY: Federal Motor Carrier Safety Administration (FMCSA), DOT.

ACTION: Notice; extension of exemption.

SUMMARY: FMCSA announces the extension of the exemption granted to WestRock, formerly known as RockTenn, on April 17, 2014, for short trips to their loading docks. The Agency extends the expiration date from April 17, 2014 to April 16, 2019, in response to the “Fixing America's Surface Transportation Act” (FAST Act). That Act extends the expiration date of hours-of-service (HOS) exemptions in effect on the date of enactment of the FAST Act to 5 years from the date of issuance of the exemptions. The WestRock exemption from the Agency's 14 hour rule is limited to WestRock drivers operating commercial motor vehicles (CMVs) between WestRock shipping and receiving departments only, on the public road (Compress Street). The Agency previously determined that the CMV operations of WestRock's drivers under this exemption would likely achieve a level of safety equivalent to or greater than the level of safety that would be obtained in the absence of the exemption.

DATES: This limited exemption is effective from April 17, 2014 through April 16, 2019.

SUPPLEMENTARY INFORMATION:

Legal Basis

FMCSA has authority under 49 U.S.C. 31136(e) and 31315 to grant exemptions from certain parts of the Federal Motor Carrier Safety Regulations. FMCSA must publish a notice of each exemption request in the Federal Register [49 CFR 381.315(a)].

Section 5206(b)(2)(A) of the FAST Act requires FMCSA to extend any exemption from any provision of the HOS regulations under 49 CFR part 395 that was in effect on the date of enactment of the Act to a period of 5 years from the date the exemption was granted. The exemption may be renewed. Because this action merely implements a statutory mandate that took effect on the date of enactment of the FAST Act, notice and comment are not required.

WestRock Exemption

WestRock, a motor carrier formerly known as RockTenn, applied for a limited exemption from the prohibition from operating a CMV on a public road after the end of the 14th hour after coming on duty following 10 or more consecutive hours off duty [49 CFR 395.3(a)(2)] on behalf of their shipping department employees operating CMVs.

FMCSA reviewed WestRock's application and the public comments and concluded that limiting the exemption to CDL holders employed by WestRock who are exclusively assigned to a specific route, and may operate a CMV on a public road past the 14-hour limit, will promote safety at least as effectively as the “14-hour rule.” These drivers operate like certain short-haul drivers, who are already permitted a 16-hour driving “window” once a week and other non-CDL short-haul drivers who are allowed two 16-hour duty periods per week. WestRock held a similar 2-year exemption from 2012-2014. A Notice of Final Determination granting the WestRock exemption was published on April 22, 2014 [79 FR 22571].

The substance of the exemption is not affected by this extension. The exemption covers only the “14 hour rule” [49 CFR 395.3(a)(3)(ii)]. The exemption is restricted to drivers employed by WestRock operating CMVs on a specified route. On each trip, the CMV must only travel on the public road (Compress Street)—approximately 275 feet in one direction—between WestRock's shipping and receiving departments. The exemption enables WestRock's shipping department drivers and occasional substitute CDL holders who transport paper mill products between WestRock's shipping and receiving locations on Compress Street to work up to 16 hours in a day and return to work with a minimum of at least 8 hours off duty.

The FMCSA does not believe the safety record of any driver operating under this exemption will deteriorate. However, should deterioration in safety occur, FMCSA will take all steps necessary to protect the public interest, including revocation of the exemption. The FMCSA has the authority to terminate the exemption at any time the Agency has the data/information to conclude that safety is being compromised.

Issued on: July 14, 2016.
T.F. Scott Darling, III,
Acting Administrator.

[FR Doc. 2016-17462 Filed 7-22-16; 8:45 am]

BILLING CODE 4910-EX-P